DEPARTMENT OF ENERGY

Federal Energy Regulatory Commission

[Project No. 11945-001]

Symbiotics, LLC; Notice of Scoping Meetings, Site Visit, and Soliciting Scoping Comments

April 18, 2005.

Take notice that the following hydroelectric application has been filed with the Commission and are available for public inspection:

a. Type of Application: Major License.

b. Project No.: 11945-001.

c. Date filed: June 30, 2004.

d. Applicant: Symbiotics, LLC.

e. Name of Project: Dorena Lake Dam Hydroelectric Project.

f. Location: On the Row River, near the Town of Cottage Grove, Lane County, Oregon. The project would occupy less than 1 acre of federal lands administered by the U.S. Army Corps of Engineers.

g. Filed Pursuant to: Federal Power Act, 16 U.S.C. 791(a)-825(r).

h. Applicant Contact: Brent L. Smith, Symbiotics, LLC, PO Box 535, Rigby, Idaho 83442; telephone (208) 745-0834 or by e-mail at bsmith@nwpwrservices.com.

i. FERC Contact: Dianne Rodman, Federal Energy Regulatory Commission, 888 First Street, NE., Washington, DC 20426; telephone (202) 502-6077 or by e-mail at dianne.rodman@ferc.gov.

j. Deadline for filing scoping comments: May 16, 2005.

All documents (original and eight copies) should be filed with: Magalie R. Salas, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site http://www.ferc.gov under the “e-Filing” link.

k. This application is not ready for environmental analysis at this time.

l. The proposed project would utilize the U.S. Army Corps of Engineers' existing Dorena Lake dam and reservoir, and would consist of the following facilities: (1) A 9-foot-diameter steel pipe, about 350 feet long, extending from the reservoir through the north dam abutment; (2) a new powerhouse, near the existing spillway stilling basin 250 feet downstream from the concrete section of the dam, having a total installed capacity of 8,300 kilowatts; (3) a new concrete-lined channel discharging flows into the river channel immediately below the existing stilling basin; (4) a new valve house near the existing stilling basin; (5) a new 15-kilovolt underground transmission line, about 500 feet long; and (6) appurtenant facilities. The average annual generation is estimated to be 17.5 gigawatthours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Scoping Process: The Commission staff intends to prepare an Environmental Assessment (EA) on the project in accordance with the National Environmental Policy Act. The EA will consider both site-specific and cumulative environmental impacts and reasonable alternatives to the proposed action.

Scoping Meetings

Commission staff will conduct one daytime scoping meeting and one evening meeting. The daytime scoping meeting will focus on resource agency and non-governmental organization (NGO) concerns, while the evening scoping meeting is primarily for public input. All interested individuals, NGOs, agencies, and tribes are invited to attend one or both of the meetings, and to assist the staff in identifying the scope of the environmental issues that should be analyzed in the EA. The times and locations of these meetings are as follows:

Daytime Scoping Meeting

Date: Thursday, May 5, 2005.

Time: 2 PM (PDT).

Place: Lane Community College.

Address: Building 17, Room 308, 4000 East 30th Avenue, Eugene, Oregon.

Evening Scoping Meeting

Date: Thursday, May 5, 2005.

Time: 7 PM (PDT).

Place: Lane Community College.

Address: Building 17, Room 308, 4000 East 30th Avenue, Eugene, Oregon.

Copies of the Scoping Document (SD1) outlining the subject areas to be addressed in the EA were distributed to the parties on the Commission's mailing list. Copies of the SD1 will be available at the scoping meetings or may be viewed on the Web at http://www.ferc.gov using the “eLibrary” link (see item m above).

Site Visit

The Applicant and Commission staff will conduct a project site visit beginning at 9 a.m. on May 5, 2005. All interested individuals, NGOs, agencies, and tribes are invited to attend. All participants should meet at Schwarz Park, below the Dorena Lake dam. All participants are responsible for their own transportation to the site. Anyone with questions about the site visit should contact Dianne Rodman, Commission staff, at (202) 502-6077 or Brent Smith of Symbiotics at (208) 742-0834.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff(s preliminary views; (4) determine the resource issues to be addressed in the EA; and (5) identify those issues that require a detailed analysis, as well as those issues that do not require a detailed analysis.

Procedures

The meetings will be recorded by a stenographer and become part of the formal record of the Commission proceeding on the project.

Individuals, NGOs, agencies, and tribes with environmental expertise and concerns are encouraged to attend the meetings and to assist the staff in defining and clarifying the issues to be addressed in the EA.

Magalie R. Salas,
Secretary.

[FR Doc. E5-1909 Filed 4-21-05; 8:45 am]

BILLING CODE 6717-01-P